DEPARTMENT OF THE INTERIOR

Fish and Wildlife Service

[FWS-R8-R-2010-N081; 80230-1265-0000-S3]

Klamath Marsh National Wildlife Refuge, Klamath County, OR

AGENCY: Fish and Wildlife Service, Interior.

ACTION: Notice of availability: Final comprehensive conservation plan and finding of no significant impact.

SUMMARY: We, the U.S. Fish and Wildlife Service (Service), announce the availability of the Final Comprehensive Conservation Plan (CCP) and Finding of No Significant Impact (FONSI) for the Klamath Marsh National Wildlife Refuge (NWR). The CCP describes how we will manage the Refuge for the next 15 years.

DATES: The CCP and FONSI are available now. The FONSI was signed on June 14, 2010. Implementation of the CCP may begin immediately.

ADDRESSES: You may view or obtain copies of the final CCP and FONSI/EA by any of the following methods. You may request a hard copy or CD-ROM.

Agency Web Site: Download a copy of the document(s) at http://www.fws.gov/klamathbasinrefuges/KlamathMarshCCP/kmarshccp.html.

Email: fw8plancomments@fws.gov. Include “Klamath Marsh CCP” in the subject line.

Mail: U.S. Fish and Wildlife Service, Attn: Mark Pelz, Chief, Refuge Planning, 2800 Cottage Way, W-1832, Sacramento, CA 95825-1846.

In-Person Viewing or Pickup: Call 541-783-3380 to make an appointment during regular business hours at Klamath Marsh National Wildlife Refuge, HC 63 Box 303, Chiloquin, OR 97624.

Local Library or Libraries: The document(s) are also available for review at the libraries listed under SUPPLEMENTARY INFORMATION.

FOR FURTHER INFORMATION CONTACT: Mark Pelz, Chief, Refuge Planning, 2800 Cottage Way, W-1832, Sacramento, CA, 95825, phone (916) 414-6500.

SUPPLEMENTARY INFORMATION:

Background

Klamath Marsh was established in 1958 and is located in south central Oregon on the east slope of the Cascade Mountain Range along the Williamson River. The Service owns approximately 40,960 acres within the 49,583-acre acquisition boundary. The Refuge protects one of the largest remaining natural freshwater marshes on the west coast. Other important habitats on the refuge include sedge meadow, grassland, riverine, riparian scrub, and ponderosa pine forest. The Refuge protects habitat for a variety of unique species including greater sandhill cranes, yellow rails, Oregon spotted frogs, red-naped sapsuckers, pygmy nuthatches, bald eagles, beaver, and red band trout. The entire Refuge is located within the former reservation of the Klamath Tribes.

We announce our decision and the availability of the FONSI for the final CCP in accordance with National Environmental Policy Act (NEPA) (40 CFR 1506.6(b)) requirements. We completed a thorough analysis of impacts on the human environment, which we included in the EA that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Our Draft CCP and Environmental Assessment (EA) were available for a 45-day public review and comment period, which we announced via several methods, including press releases, updates to constituents, and a Federal Register notice (74 FR 38668, August 4, 2009). The Draft CCP/EA identified and evaluated three alternatives for managing the Refuge for the next 15 years. Alternative A was the no-action alternative, which described current Refuge management activities. Alternative B (the selected alternative) would restore the portion of the Williamson River and Big Spring Creek on the Refuge; and expand visitor services. Alternative C would also restore the portions of the Williamson River and Big Springs Creek on the Refuge; and recommend 11,165 acres for wilderness designation.

We received 56 comment letters on the Draft CCP and EA during the review period. We incorporated these received comments into the CCP when possible, and we responded to the comments in an appendix to the CCP. In the FONSI, we selected Alternative B, the basis for the CCP, for implementation. The FONSI documents our decision and is based on the information and analysis contained in the EA.

Under the selected alternative, the Service would restore the portion of the Williamson River and Big Spring Creek on the Refuge; substantially improve management of emergent marsh, meadows, ponderosa pine forest and aspen to increase habitat value for migratory birds and other wildlife; improve and expand visitor services by developing new trails, interpretive exhibits, an environmental education program, and a visitor contact station; maintain existing hunting and fishing programs with minor modifications; increase cultural resources protection; and recommend no units for wilderness designation. The Service would also revise and update the MOU with the Klamath Tribes regarding subsistence hunting and gathering. The selected alternative best meets the Refuge's purposes, vision, and goals; contributes to the Refuge System mission; addresses the significant issues and relevant mandates; and is consistent with principles of sound fish and wildlife management.

Public Availability of Documents

In addition to the methods in ADDRESSES, you can view or obtain documents at the following locations:

• Our Web site: http://www.fws.gov/klamathbasinrefuges/KlamathMarshCCP/kmarshccp.html

• Public Libraries: During regular library hours, at the following libraries:

Library | Address
Chiloquin | 216 South 1st Street, Chiloquin, OR 97624.
Klamath County | 126 South Third Street, Klamath Falls, OR 97601.
USFWS-NCTC | 698 Conservation Way, Shepherdstown, WV 25443.

Dated: June 14, 2010.
Ren Lohoefener,
Regional Director, Pacific Southwest Region, Sacramento, California.

[FR Doc. 2010-26666 Filed 10-21-10; 8:45 am]

BILLING CODE 4310-55-P